DEPARTMENT OF STATE

[Public Notice 7657]

Notice of Proposal To Extend the Memorandum of Understanding Between the Government of the United States of America and the Government of the Republic of Peru Concerning the Imposition of Import Restrictions on Archaeological Material From Pre-Hispanic Cultures and Certain Ethnological Material From the Colonial Period of Peru

The Government of the Republic of Peru has informed the Government of the United States of America of its interest in an extension of the Memorandum of Understanding between the Government of the United States of America and the Government of the Republic of Peru Concerning the Imposition of Import Restrictions on Archaeological Material from Pre-Hispanic Cultures and Certain Ethnological Material from the Colonial Period of Peru (MOU).

Pursuant to the authority vested in the Assistant Secretary for Educational and Cultural Affairs, and pursuant to the requirement under 19 U.S.C. 2602(f)(1), an extension of this Memorandum of Understanding is hereby proposed.

Pursuant to 19 U.S.C. 2602(f)(2), the views and recommendations of the Cultural Property Advisory Committee regarding this proposal will be requested.

A copy of the MOU, the Designated List of restricted categories of material, and related information can be found at the following Web site: http://exchanges.state.gov/heritage/culprop.

Dated: November 30, 2011.
Adam Ereli,
Acting Assistant Secretary, Bureau of Educational and Cultural Affairs, Department of State.

[FR Doc. 2011-31409 Filed 12-6-11; 8:45 am]

BILLING CODE 4710-05-P